DEPARTMENT OF JUSTICE

Notice of Lodging of Consent Decree Pursuant to the Comprehensive Environmental Response, Compensation, and Liability Act

In accordance with Departmental policy, 28 CFR 50.7, notice is hereby given that a proposed consent decree in United States v. Waste Management of Washington, Inc., Civil Action No. C04-983-Z, was lodged on April 30, 2004, with the United States District Court for the Western District of Washington. The consent decree requires defendant Waste Management of Washington, Inc., to compensate the trustees for natural resource damages at the Tulalip Landfill Superfund site, which consist of the State of Washington Department of Ecology, the Tulalip Tribes of Washington, the National Oceanic and Atmospheric Administration of the United States Department of Commerce, and the United States Department of Interior, for natural resource damages at the Tulalip Landfill Superfund Site that have resulted from the release of hazardous substances at the Site. Under the consent decree Waste Management will pay $190,000 for natural resource damages.

The Department of Justice will receive, for a period of thirty (30) days from the date of this publication, comments relating to the proposed consent decree. Comments should be addressed to the Assistant Attorney General for the Environment and Natural Resources Division, Department of Justice, Washington, DC 20530, and should refer to United States v. Waste Management of Washington, Inc., DOJ Ref. #90-11-3-1412/11.

The proposed consent decree may be examined at the office of the United States Attorney, 601 Union Street, Seattle, WA 98101. During the public comment period, the Consent Decree may be examined on the following Department of Justice Web site: http://www.usdoj.gov/enrd/open.html, and at the Consent Decree Library, P.O. Box 7611, U.S. Department of Justice, Washington, DC 20044-7611 or by faxing a request to Tonia Fleetwood, fax no. (202) 514-0097, phone confirmation number (202) 514-1547. In requesting a copy please refer to the referenced case and enclose a check in the amount of $4.50 (25 cents per page reproduction costs), payable to the U.S. Treasury.

Robert E. Maher, Jr.,
Ass't Chief, Environmental Enforcement Section, Environment and Natural Resources Division.

[FR Doc. 04-11323 Filed 5-18-04; 8:45 am]

BILLING CODE 4410-15-M